DEPARTMENT OF AGRICULTURE

Agricultural Marketing Service

[Doc. No. AMS-FV-14-0038; FV14-996-2]

Peanut Standards Board

AGENCY: Agricultural Marketing Service, USDA.

ACTION: Notice; request for nominations.

SUMMARY: The Farm Security and Rural Investment Act of 2002 (2002 Farm Bill) requires the Secretary of Agriculture to establish a Peanut Standards Board (Board) for the purpose of advising the Secretary on quality and handling standards for domestically produced and imported peanuts. The initial Board was appointed by the Secretary and announced on December 5, 2002. USDA seeks nominations for individuals to be considered for selection as Board members for a term of office ending June 30, 2017. Selected nominees would replace three producers and three industry representatives who currently serve on the Board and who have terms of office that end on June 30, 2014. The Board consists of 18 members representing producers and the industry. In an effort to obtain diversity among candidates, USDA encourages the nomination of men and women of all racial and ethnic groups and persons with a disability.

DATES: Written nominations must be received on or before July 14, 2014.

ADDRESSES: Nominations should be sent to Jennie M. Varela of the Southeast Marketing Field Office, Marketing Order and Agreement Division, Fruit and Vegetable Program, AMS, USDA, 799 Overlook Drive, Suite A, Winter Haven, FL 33884; Telephone: (863) 324-3375; Fax: (863) 325-8793; Email: Jennie.Varela@ams.usda.gov.

SUPPLEMENTARY INFORMATION: Section 1308 of the 2002 Farm Bill requires the Secretary of Agriculture to establish and consult with the Board for the purpose of advising the Secretary regarding the establishment of quality and handling standards for all domestic and imported peanuts marketed in the United States.

The 2002 Farm Bill provides that the Board's makeup will include three producers and three peanut industry representatives from states specified in each of the following producing regions: Southeast (Alabama, Georgia, and Florida); Southwest (Texas, Oklahoma, and New Mexico); and Virginia/Carolina (Virginia and North Carolina).

The term “peanut industry representatives” includes, but is not limited to, representatives of shellers, manufacturers, buying points, and marketing associations and marketing cooperatives. The 2002 Farm Bill exempted the appointment of the Board from the requirements of the Federal Advisory Committee Act.

USDA invites individuals, organizations, and groups affiliated with the categories listed above to nominate individuals for membership on the Board. Nominees sought by this action would fill two positions in the Southeast region, two positions in the Southwest region, and two positions in the Virginia/North Carolina region.

Nominees should complete a Peanut Standards Board Background Information form and submit it to Jennie Varela at the address provided in the “Addresses” section above. Copies of this form may be obtained at the internet site http://www.ams.usda.gov/PeanutStandardsBoard, or from the Southeast Marketing Field Office. USDA seeks a diverse group of members to represent the peanut industry.

Equal opportunity practices will be followed in all appointments to the Board in accordance with USDA policies. To ensure that the recommendations of the Board have taken into account the needs of the diverse groups within the peanut industry, membership shall include, to the extent practicable, individuals with demonstrated abilities to represent minorities, women, persons with disabilities, and limited resource agriculture producers.

Authority: 7 U.S.C. 7958

Dated: May 22, 2014.
Rex A. Barnes,
Associate Administrator, Agricultural Marketing Service.

[FR Doc. 2014-12320 Filed 5-27-14; 8:45 am]

BILLING CODE 3410-02-P